DEPARTMENT OF STATE

[Public Notice 7129]

Culturally Significant Objects Imported for Exhibition Determinations: “Paintings From the Reign of Victoria: The Royal Holloway Collection, London”; Correction

AGENCY: Department of State.

ACTION: Notice; correction.

SUMMARY: The Department of State published a document in the Federal Register of August 26, 2008, concerning culturally significant objects imported for exhibition determinations. The document did not state that the exhibition, “Paintings from the Reign of Victoria: The Royal Holloway Collection, London” would leave the United States after the last exhibit listed and then return for further exhibits.

FOR FURTHER INFORMATION CONTACT: For further information, including a list of exhibit objects, contact Carol B. Epstein, Attorney-Adviser, Office of the Legal Adviser, U.S. Department of State (telephone: 202/632-6473). The address is U.S. Department of State, SA-5, L/PD, Fifth Floor, Washington, DC 20522-0505.

Correction

In the Federal Register of August 26, 2008, in FR volume 73, page 50395, at the end of the determinations, should be added the following: I further determine that the return to the United States of this exhibition of culturally significant objects for display at the Chrysler Museum of Art, Norfolk, VA, from on or about September 25, 2010, until on or about January 3, 2011, and at an additional venue yet to be determined from on or about January 22, 2011, until on or about May 2, 2011, is in the public interest.

Dated: August 17, 2010.
Ann Stock,
Assistant Secretary, Bureau of Educational and Cultural Affairs, Department of State.

[FR Doc. C1-2010-21179 Filed 8-24-10; 8:45 am]

BILLING CODE 4710-08-P